DEPARTMENT OF COMMERCE

International Trade Administration

[C-834-811]

Silicon Metal From the Republic of Kazakhstan: Countervailing Duty Order

AGENCY: Enforcement and Compliance, International Trade Administration, Department of Commerce.

SUMMARY: Based on affirmative final determinations by the Department of Commerce (Commerce) and the International Trade Commission (ITC), Commerce is issuing a countervailing duty order on silicon metal from the Republic of Kazakhstan (Kazakhstan).

DATES: Applicable April 19, 2021.

FOR FURTHER INFORMATION CONTACT: Justin Neuman, AD/CVD Operations, Office V, Enforcement and Compliance, International Trade Administration, U.S. Department of Commerce, 1401 Constitution Avenue NW, Washington, DC 20230; telephone: (202) 482-0486.

SUPPLEMENTARY INFORMATION:

Background

In accordance with sections 705(a), 705(d), and 777(i)(1) of the Tariff Act of 1930, as amended (the Act), and 19 CFR 351.210(c), on February 26, 2021, Commerce published its affirmative final determination that countervailable subsidies are being provided to producers and exporters of silicon metal from Kazakhstan.¹ On April 12, 2021, the ITC notified Commerce of its affirmative final determination that pursuant to sections 705(b)(1)(A)(i) and 705(d) of the Act, an industry in the United States is materially injured by reason of subsidized imports of silicon metal from Kazakhstan.²

¹ See Silicon Metal from the Republic of Kazakhstan: Final Affirmative Countervailing Duty Determination, 86 FR 11725 (February 26, 2021) (Final Determination) and accompanying Issues and Decision Memorandum.

² See ITC's Letter, ITC Notification, dated April 12, 2021 (ITC Notification Letter).

Scope of the Order

The product covered by this order is silicon metal from Kazakhstan. For a complete description of the scope of the order, see the Appendix to this notice.

Countervailing Duty Order

On April 12, 2021, in accordance with sections 705(b)(1)(A)(i) and 705(d) of the Act, the ITC notified Commerce of its final determination that an industry in the United States is materially injured by reason of subsidized imports of silicon metal from Kazakhstan.³ Therefore, in accordance with section 705(c)(2) of the Act, Commerce is issuing this countervailing duty order. Because the ITC determined that imports of silicon metal from Kazakhstan are materially injuring a U.S. industry, unliquidated entries of such merchandise from Kazakhstan, which are entered or withdrawn from warehouse for consumption, are subject to the assessment of countervailing duties.

³ Id.

Therefore, in accordance with section 706(a) of the Act, Commerce will direct U.S. Customs and Border Protection (CBP) to assess, upon further instruction by Commerce, countervailing duties for all relevant entries of silicon metal from Kazakhstan. Countervailing duties will be assessed on unliquidated entries of silicon metal from Kazakhstan which are entered, or withdrawn from warehouse, for consumption on or after December 3, 2020, the date of publication of the Preliminary Determination,⁴ but will not include entries occurring after the expiration of the provisional measures period and before the publication of the ITC's final injury determination under section 705(b) of the Act, as further described below.

⁴ See Silicon Metal from the Republic of Kazakhstan: Preliminary Affirmative Countervailing Duty Determination, and Alignment of Final Determination with Final Antidumping Duty Determination, 85 FR 78122 (December 3, 2020) (Preliminary Determination).

Suspension of Liquidation and Cash Deposits

In accordance with section 706 of the Act, Commerce will instruct CBP to reinstitute the suspension of liquidation of silicon metal from Kazakhstan, as described in the appendix to this notice, effective on the date of publication of the ITC's notice of final determination in the Federal Register, and to assess, upon further instruction by Commerce, pursuant to section 706(a)(1) of the Act, countervailing duties for each entry of the subject merchandise in an amount based on the net countervailable subsidy rates below. On or after the date of publication of the ITC's final injury determinations in the Federal Register, CBP must require, at the same time as importers would deposit estimated normal customs duties on this merchandise, a cash deposit equal to the rates noted below. The all-others rate applies to all producers or exporters not specifically listed below.

⁵ As discussed in the Issues and Decision Memorandum, Commerce has found the following companies to be cross-owned with Tau-Ken Temir LLP and JSC NMC Tau-Ken Samruk: Silicon Metal LLP, Metallurgical Combine KazSilicon LLP, National Welfare Fund “Samruk-Kazyna” JSC, “Ekibastuz GRES-2 station” JSC, and JSC KEGOC.

Company | Subsidy rate (percent)
Tau-Ken Temir LLP and JSC NMC Tau-Ken Samruk ⁵ | 160.00
All Others | 160.00

Provisional Measures

Section 703(d) of the Act states that suspension of liquidation pursuant to an affirmative preliminary determination may not remain in effect for more than four months. In the underlying investigation, Commerce published the Preliminary Determination on December 3, 2020. Therefore, the four-month period beginning on the date of the publication of the Preliminary Determination ended on April 1, 2021. Furthermore, section 707(b) of the Act states that definitive duties are to begin on the date of publication of the ITC's final injury determination.

Therefore, in accordance with section 703(d) of the Act, we instructed CBP to terminate the suspension of liquidation and to liquidate, without regard to countervailing duties, unliquidated entries of silicon metal from Kazakhstan entered, or withdrawn from warehouse, for consumption, on or after April 2, 2021, the date the provisional measures expired, until and through the day preceding the date of publication of the ITC's final injury determination in the Federal Register. Suspension of liquidation will resume on the date of publication of the ITC's final determination in the Federal Register.

Notification to Interested Parties

This notice constitutes the countervailing duty order with respect to silicon metal from Kazakhstan pursuant to section 706(a) of the Act. Interested parties can find a list of countervailing duty orders currently in effect at http://enforcement.trade.gov/stats/iastats1.html. This order is issued and published in accordance with section 706(a) of the Act and 19 CFR 351.211(b).

Dated: April 14, 2021.
Christian Marsh,
Acting Assistant Secretary for Enforcement and Compliance.

Appendix

Scope of the Order

The scope of this order covers all forms and sizes of silicon metal, including silicon metal powder. Silicon metal contains at least 85.00 percent but less than 99.99 percent silicon, and less than 4.00 percent iron, by actual weight. Semiconductor grade silicon (merchandise containing at least 99.99 percent silicon by actual weight and classifiable under Harmonized Tariff Schedule of the United States (HTSUS) subheading 2804.61.0000) is excluded from the scope of this order.

Silicon metal is currently classifiable under subheadings 2804.69.1000 and 2804.69.5000 of the HTSUS. While the HTSUS numbers are provided for convenience and customs purposes, the written description of the scope remains dispositive.

[FR Doc. 2021-08111 Filed 4-16-21; 8:45 am]

BILLING CODE 3510-DS-P